DEPARTMENT OF COMMERCE

National Oceanic and Atmospheric Administration

[RTID 0648-XB245]

14th Scientific Advisory Subcommittee to the General Advisory Committee and 29th General Advisory Committee to the U.S. Section to the Inter-American Tropical Tuna Commission; Meeting Announcement

AGENCY: National Marine Fisheries Service (NMFS), National Oceanic and Atmospheric Administration (NOAA), Commerce.

ACTION: Notice of public meeting.

SUMMARY: NMFS announces a combined public meeting of the 14th Scientific Advisory Subcommittee (SAS) to the General Advisory Committee (GAC), and the 29th GAC to the U.S. Section to the Inter-American Tropical Tuna Commission (IATTC). This meeting will be held virtually on Friday, July 23, 2021, via webinar, and is the second combined virtual meetings of the SAS and GAC in 2021. The meeting topics are described under the SUPPLEMENTARY INFORMATION section of this notice.

DATES: The virtual meeting of the SAS and GAC will be held on Friday, July 23, 2021, from 9 a.m. to 1 p.m. PDT (or until business is concluded).

ADDRESSES: Please notify William Stahnke (see FOR FURTHER INFORMATION CONTACT) by Friday, July 16, if you plan to attend the webinar. Instructions on how to access the meeting will be emailed to meeting participants before the meeting occurs.

FOR FURTHER INFORMATION CONTACT: William Stahnke, West Coast Region, NMFS, at william.stahnke@noaa.gov, or at (562) 980-4088.

SUPPLEMENTARY INFORMATION: The timing of U.S. SAS and GAC meetings is dependent on when IATTC annual meeting(s) occur. This year, the 98th Annual Meeting of the IATTC will take place from August 23-27, 2021. As such, the combined U.S. SAS and GAC Meeting will be held before the 98th IATTC Annual Meeting. It should be noted that while the 97th (Extraordinary) IATTC Meeting was focused solely on tropical tuna (i.e., bigeye, yellowfin, skipjack tuna) measures, the 98th Annual Meeting of the IATTC will cover additional topics.

In accordance with the Tuna Conventions Act (16 U.S.C. 951 et seq.), the U.S. Department of Commerce, in consultation with the Department of State (the State Department), appoints a GAC to the U.S. Section to the IATTC and a SAS that advises the GAC. The U.S. Section consists of the four U.S. Commissioners to the IATTC and representatives of the State Department, NOAA, Department of Commerce, other U.S. Government agencies, and stakeholders. The GAC advises the U.S. Section with respect to U.S. participation in the work of the IATTC, focusing on the development of U.S. policies, positions, and negotiating tactics. The purpose of the SAS is to advise the GAC on scientific matters. NMFS West Coast Region staff provide administrative support for the SAS and GAC. The meetings of the SAS and GAC are open to the public, unless in executive session. The time and manner of public comment will be at the discretion of the Chairs for the SAS and GAC.

For more information and updates on these upcoming meetings, please visit the IATTC's website: https://www.iattc.org/MeetingsENG.htm.

SAS and GAC Meeting Topics

This meeting will have a reduced agenda to prepare for the 98th IATTC Meeting that is expected to focus on tropical tuna, but will cover other topics as well.

The meeting agenda will include, but is not limited to, the following topics:

(1) Relevant scientific information from the IATTC scientific staff and the International Scientific Committee for Tuna and Tuna-Like Species in the North Pacific Ocean (ISC) for tuna, tuna-like species, and other species caught in association with those fisheries in the eastern Pacific Ocean;

(2) Discussion of management measures for tropical tuna, temperate tuna (e.g., North Pacific albacore and Pacific bluefin tuna), and sharks as well as administrative topics;

(3) Recommendations and evaluations by the SAS and GAC; and

(4) Other issues as they arise.

Special Accommodations

Requests for sign language interpretation or other auxiliary aids should be directed to William Stahnke (see FOR FURTHER INFORMATION CONTACT).

Authority: 16 U.S.C. 951 et seq.

Dated: July 20, 2021.
Jennifer M. Wallace,
Acting Director, Office of Sustainable Fisheries, National Marine Fisheries Service.

[FR Doc. 2021-15747 Filed 7-20-21; 4:15 pm]

BILLING CODE 3510-22-P